DEPARTMENT OF COMMERCE

National Oceanic and Atmospheric Administration

50 CFR Parts 223 and 224

[Docket No. 101004485-0486-01]

RIN 0648-XZ50

Listing Endangered and Threatened Species: 90-Day Finding on a Petition to List Six Species of Sawfishes as Endangered or Threatened Species Under the Endangered Species Act

AGENCY: National Marine Fisheries Service (NMFS), National Oceanic and Atmospheric Administration (NOAA), Commerce.

ACTION: Notice of 90-day petition finding, request for information, and initiation of status review.

SUMMARY: We, NMFS, announce a 90-day finding on a petition to list six species of sawfish: Anoxyprisitis cuspidata, Prisitis clavata, P. microdon, P. pristis, P. zijsron, and the remaining non-listed population(s) of P. pectinata as endangered or threatened under the Endangered Species Act (ESA). We find that the petition and information in our files present substantial information indicating the petitioned action may be warranted for five of the sawfish species petitioned (A. cuspidata, P. clavata, P. microdon, P. zijsron, and all non-listed population(s) of P. pectinata). We find that the petition and information in our files do not present substantial information indicating that the petitioned action may be warranted for P. pristis. We will conduct a status review of the five species of sawfish (A. cuspidata, P. clavata, P. microdon, P. zijsron, and all non-listed population(s) of P. pectinata) to determine if the petitioned action is warranted. To ensure that the status review is comprehensive, we are soliciting scientific and commercial data regarding these species (see below).

DATES: Information and comments on the subject action must be received by May 6, 2011.

ADDRESSES: You may submit comments, identified by the code 0648-XZ50, addressed to: Shelley Norton, Natural Resource Specialist, by any of the following methods:

• Electronic Submissions: Submit all electronic comments via the Federal eRulemaking Portal http://www.regulations.gov.

• Facsimile (fax): 727-824-5309.

• Mail: NMFS, Southeast Regional Office, 263 13th Avenue South, St. Petersburg, FL 33701.

• Hand delivery: You may hand deliver written comments to our office during normal business hours at the street address given above.

Instructions: All comments received are a part of the public record and may be posted to http://www.regulations.gov without change. All personally identifiable information (for example, name, address, etc.) voluntarily submitted by the commenter may be publicly accessible. Do not submit confidential business information or otherwise sensitive or protected information. NMFS will accept anonymous comments. Attachments to electronic comments will be accepted in Microsoft Word, Excel, Corel WordPerfect, or Adobe PDF file formats only.

FOR FURTHER INFORMATION CONTACT: Shelley Norton, NMFS, Southeast Region, (727) 824-5312; or Dwayne Meadows, NMFS, Office of Protected Resources, (301) 713-1401.

SUPPLEMENTARY INFORMATION:

Background

On September 9, 2010, we NMFS, received a petition from WildEarth Guardians requesting that the Secretary of Commerce (Secretary) list six species of sawfish (range-wide): A. cuspidata, P. clavata, P. microdon, P. pristis, P. zijsron, and the remaining non-listed population of P. pectinata as endangered or threatened species under the ESA. The petitioner alternatively requested the listing of any Distinct Population Segment (DPS) of the six species of sawfish, if we determine that they exist. Copies of the petition are available from us (see ADDRESSES, above).

On November 30, 1999, we received a petition from the Center for Marine Conservation (now the Ocean Conservancy) requesting that we list the North American population of smalltooth sawfish (P. pectinata) as endangered. We listed the U.S. DPS of smalltooth sawfish as endangered on April 1, 2003 (68 FR 15674). Smalltooth sawfish whose range is located outside the U.S. are not currently listed under the ESA.

ESA Statutory, Regulatory, and Policy Provisions and Evaluation Framework

Section 4(b)(3)(A) of the ESA of 1973, as amended (16 U.S.C. 1531 et seq.), requires, to the maximum extent practicable, that within 90 days of receipt of a petition to list a species as threatened or endangered, the Secretary of Commerce make a finding on whether that petition presents substantial scientific or commercial information indicating that the petitioned action may be warranted, and to promptly publish such finding in the Federal Register (16 U.S.C. 1533(b)(3)(A)). When it is found that substantial scientific or commercial information in a petition indicates the petitioned action may be warranted (a “positive 90-day finding”), we are required to promptly commence a review of the status of the species concerned during which we will conduct a comprehensive review of the best available scientific and commercial information. In such cases, we conclude the review with a finding as to whether, in fact, the petitioned action is warranted within 12 months of receipt of the petition. Because the finding at the 12-month stage is based on a more thorough review of the available information, as compared to the narrow scope of review at the 90-day stage, a “may be warranted” finding does not prejudge the outcome of the status review.

Under the ESA, a listing determination may address a “species,” which is defined to also include subspecies and, for any vertebrate species, any distinct population segment (DPS) that interbreeds when mature (16 U.S.C. 1532(16)). A joint NOAA-U.S. Fish and Wildlife Service (USFWS) (jointly, “the Services”) policy clarifies the agencies' interpretation of the phrase “distinct population segment” for the purposes of listing, delisting, and reclassifying a species under the ESA (61 FR 4722; February 7, 1996). A species, subspecies, or DPS is “endangered” if it is in danger of extinction throughout all or a significant portion of its range, and “threatened” if it is likely to become endangered within the foreseeable future throughout all or a significant portion of its range (ESA sections 3(6) and 3(20), respectively, 16 U.S.C. 1532(6) and (20)). Pursuant to the ESA and our implementing regulations, we determine whether species are threatened or endangered because of any one or a combination of the following five section 4(a)(1) factors: (1) The present or threatened destruction, modification, or curtailment of habitat or range; (2) overutilization for commercial, recreational, scientific, or educational purposes; (3) disease or predation; (4) inadequacy of existing regulatory mechanisms; and (5) any other natural or manmade factors affecting the species' existence (16 U.S.C. 1533(a)(1), 50 CFR 424.11(c)).

ESA-implementing regulations issued jointly by NMFS and USFWS (50 CFR 424.14(b)) define “substantial information” in the context of reviewing a petition to list, delist, or reclassify a species as the amount of information that would lead a reasonable person to believe that the measure proposed in the petition may be warranted. In evaluating whether substantial information is contained in a petition, the Secretary must consider whether the petition: (1) Clearly indicates the administrative measure recommended and gives the scientific and any common name of the species involved; (2) contains detailed narrative justification for the recommended measure, describing, based on available information, past and present numbers and distribution of the species involved and any threats faced by the species; (3) provides information regarding the status of the species over all or a significant portion of its range; and (4) is accompanied by the appropriate supporting documentation in the form of bibliographic references, reprints of pertinent publications, copies of reports or letters from authorities, and maps (50 CFR 424.14(b)(2)).

Court decisions have clarified the appropriate scope and limitations of the Services' review of petitions at the 90-day finding stage, in making a determination that a petitioned action “may be” warranted. As a general matter, these decisions hold that a petition need not establish a “strong likelihood” or a “high probability” that a species is either threatened or endangered to support a positive 90-day finding.

We evaluate the petitioner's request based upon the information in the petition including its references, and the information readily available in our files. We do not conduct additional research, and we do not solicit information from parties outside the agency to help us in evaluating the petition. We will accept the petitioner's sources and characterizations of the information presented, if they appear to be based on accepted scientific principles, unless we have specific information in our files that indicates the petition's information is incorrect, unreliable, obsolete, or otherwise irrelevant to the requested action. Information that is susceptible to more than one interpretation or that is contradicted by other available information will not be dismissed at the 90-day finding stage, so long as it is reliable and a reasonable person would conclude it supports the petitioner's assertions. In other words, conclusive information indicating the species may meet the ESA's requirements for listing is not required to make a positive 90-day finding. We will not conclude that a lack of specific information alone negates a positive 90-day finding, if a reasonable person would conclude that the unknown information itself suggests an extinction risk of concern for the species at issue.

To make a 90-day finding on a petition to list a species, we evaluate whether the petition presents substantial scientific or commercial information indicating the subject species may be either threatened or endangered, as defined by the ESA. First we evaluate whether the information presented in the petition, along with the information readily available in our files, indicates that the petitioned entity constitutes a “species” eligible for listing under the ESA. Next, we evaluate whether the information indicates that the species at issue faces extinction risk that is cause for concern; this may be indicated in information expressly discussing the species' status and trends, or in information describing impacts and threats to the species. We evaluate any information on specific demographic factors pertinent to evaluating extinction risk for the species at issue (e.g., population abundance and trends, productivity, spatial structure, age structure, sex ratio, diversity, current and historical range, habitat integrity or fragmentation), and the potential contribution of identified demographic risks to extinction risk for the species. We then evaluate the potential links between these demographic risks and the causative impacts and threats identified in section 4(a)(1).

Information presented on impacts or threats should be specific to the species and should reasonably suggest that one or more of these factors may be operative threats that act or have acted on the species to the point that it may warrant protection under the ESA. Broad statements about generalized threats to the species, or identification of factors that could negatively impact a species, do not constitute substantial information that listing may be warranted. We look for information indicating that not only is the particular species exposed to a factor, but that the species may be responding in a negative fashion; then we assess the potential significance of that negative response.

Many petitions identify risk classifications made by other organizations or agencies, such as the International Union on the Conservation of Nature (IUCN), the American Fisheries Society, or NatureServe, as evidence of extinction risk for a species. Risk classifications by other organizations or made under other Federal or state statutes may be informative, but the classification alone may not provide the rationale for a positive 90-day finding under the ESA. For example, as explained by NatureServe, their assessments of a species' conservation status do “not constitute a recommendation by NatureServe for listing under the U.S. Endangered Species Act” because NatureServe assessments “have different criteria, evidence requirements, purposes and taxonomic coverage than government lists of endangered and threatened species, and therefore these two types of lists should not be expected to coincide.” (http://www.natureserve.org/prodServices/statusAssessment.jsp). Thus, when a petition cites such classifications, we will evaluate the source information that the classification is based upon in light of the standards on extinction risk and impacts or threats discussed above.

Species Description

In the following sections we compile information from the petition and our files to describe the best available information and knowledge regarding the petitioned species biology.

Taxonomy

All sawfishes belong to one of two genera (Pristis or Anoxypristis) in the Family Pristidae of the Order Pristiformes, and are classified as rays (Superorder Batoidea). Considerable taxonomic confusion exists for sawfishes. The largetooth sawfish group (P. pristis, P. microdon, and P. perotteti) is considered to be the most taxonomically confused of all of the sawfish species. Faria (2007) distinguished seven extant species in the family. The petitioner states that P. pristis is a valid taxon based on the most recent IUCN assessment (IUCN, 2005), but that it is a sketchily-known large sawfish. The petitioner also states that mature specimens are lacking and small specimens are rare and isolated attributes may be misidentified members of P. microdon. Information in our files indicates that P. pristis is not a valid species eligible for listing under the ESA. Faria (2007) completed a taxonomic review of sawfishes using historical taxonomic literature, empirical observations on morphology, geographical distribution, and genetics. Using molecular phylogeny (mitochondrial and nuclear gene analysis) paired with morphological characteristics he concluded that P. pristis is not a valid species. Pristis pristis is associated with various morphological features from a variety of specimens that cannot be assigned to a single species (Faria 2007). Based on the results of his review, Faria (2007) has prepared a proposal to the International Commission of Zoological Nomenclature to suppress or declare invalid P. pristis. The taxonomy sources cited by the petition, the IUCN and the Integrated Taxonomic Information System, rely on older, out-of-date information. Our regulations state that, “In determining whether a particular taxon or population is a species for the purposes of the Act, the Secretary shall rely on standard taxonomic distinctions and the biological expertise of the Department and the scientific community concerning the relevant taxonomic group” (50 CFR 424.11(a)). Under this provision, we must apply the best available science even when it indicates that currently accepted taxonomic classifications are wrong. Based on the best available commercial and scientific information, we have determined that P. pristis is not a valid species and, therefore, does not qualify for listing under the ESA. The remainder of this document will focus on the five remaining sawfish species listed in the petition.

Distribution

Sawfishes are elasmobranches that historically were once widespread in tropical to warm temperate, shallow, nearshore marine habitats, estuaries, large rivers, and some lakes. Their distribution was presumably once continuous in suitable habitat, but is now severely fragmented with many populations extirpated from large parts of their former range and remaining populations seriously depleted.

Sawfish distributions are still widespread. Anoxypristis cuspidata occurs in the Indo-West Pacific Ocean ranging from east Africa to Australia, China, and Taiwan (Compagno and Cook, 1995). Pristis clavata primarily occurs in northern nearshore waters of Australia while P. microdon is found from Sri Lanka to Australia, including islands of the Indonesian archipelago (Last and Stevens, 1994; Compagno and Cook, 1995). Pristis microdon is also found in freshwater bodies in countries in Southern Africa, India, and southeastern Asia (Taniuchi et al., 1994). Pristis pectinata is the most wide-ranging species, but its distribution is highly disjunct. Pristis pectinata occurs in the Western Atlantic Ocean from the Gulf of Mexico to Brazil (Bigelow and Schroeder, 1953), while in the eastern Atlantic Ocean, P. pectinata once occurred in the Mediterranean Sea (where it is now extirpated) and is rarely found in western African countries and South Africa. Its range further extends through the Indian Ocean from east Africa to Southeast Asia and Australia (Last and Stevens, 1994; Simpfendorfer, 2005). Pristis zijsron occurs in the Indian and Western Pacific Ocean from east Africa to Australia including some areas of Southeast Asia and in the Indonesian archipelago (Bigelow and Schroeder, 1953; Last and Stevens, 1994; Cook and Compagno, 1995).

Habitats

Sawfishes are generally benthic in nature frequenting shallow coastal, brackish, and freshwater habitats. Sawfishes usually occur in shallow water depths less than 32 ft (10 m), but occasionally adults have been recorded up to 164 ft (50 m) (Simpfendorfer and Wiley, 2005). Observations of sawfishes tend to indicate a preference for areas with lower salinities especially river mouths. For the U.S. DPS of smalltooth sawfish, Simpfendorfer and Wiley (2005) reported closer associations between encounters and mangroves, seagrasses, and the shoreline than expected if distribution were random. Their encounter data also demonstrated that juvenile smalltooth sawfish occur in shallower water, and larger sawfish occur regularly at depths greater than 32 ft (10 m).

Age, Growth, and Reproduction

Studies on the biological characteristics of any of the sawfishes are rare, but those studies that have examined parameters such as age, growth, and reproduction suggest a group with very low productivity. In the following discussion, we describe what is known about the life history of any of the species for which information exists. Where necessary we make determinations as to the best-available evidence for the biology of the petitioned species. There have been no formal studies examining the age and growth of the largetooth sawfishes, though Thorson's (1982a) study of the Lake Nicaragua population of P. perotteti provided some parameters that may be applicable to other sawfishes. He estimated size at birth to be 30 in (75 cm) and an early juvenile growth rate of 13.8 to 15.7 in (35 to 40 cm)/year. Thorson (1982a) also estimated age of maturity to be 10 years and size at maturity to be 118 in (300 cm). Preliminary vertebral growth ring analysis suggests the lifespan of P. microdon to be an estimated maximum age of 51 years (Peverell, 2006), and we determined this to be our best available estimate of largetooth sawfish lifespan. Age at maturity for P. pectinata has been estimated to be 10-33 years depending on sex and study (Simpfendorfer, 2000; Clarke et al., 2004). Tanaka (1991) produced a growth curve for the freshwater sawfish P. microdon from northern Australia and Papua New Guinea using vertebral ageing that indicated relatively slow growth and late maturity. In contrast, Thorburn et al. (2007), working in northwestern Australia, reported similar first year growth rates, but continued rapid growth, with growth to 98 in (2500 mm) approximately four times faster than reported by Tanaka (1991). Thorson (1982) provided growth information for the largetooth sawfish (P. perotetti) from tag-recapture data, noting slow growth in adults (mean annual growth of 1.7 in or 44 mm). Recently, Simpfendorfer et al. (2006) reported growth rates of juvenile smalltooth sawfish collected in Florida waters between 1999 and 2006 were 25.59 to 33.46 in (650-850 mm) in the first year and 18.90 to 26.77in (480-680 mm) in the second year. The growth rates reported are substantially faster than those previously assumed for this species and may have important implications for the recovery of this endangered species. However, there are conflicting data regarding the growth rates of older sawfish which need to be resolved.

As in all elasmobranches, fertilization in sawfishes is internal. Development is believed to be ovoviviparous. The embryos of P. pectinata, while still bearing the large yolk sac, already resemble adults relative to the position of their fins and absence of the lower caudal fin lobe. During embryonic development the rostral saw blade is soft and flexible. The rostral teeth are also encapsulated or enclosed in a sheath until birth. Shortly after birth, the teeth become exposed and attain their full size proportionate to the size of the saw. Size at birth for smalltooth sawfish is approximately 2.3 to 2.7 ft (690-810 mm) (Simpfendorfer et al. 2008). Bigelow and Schroeder (1953) reported gravid females carry 15-20 embryos. Studies of P. perotteti in Lake Nicaragua (Thorson, 1976) report brood sizes of 1-13 individuals, with a mean of 7.3 individuals. The gestation period for P. perotteti is approximately 5 months and females likely produce litters every second year (Thorson, 1976).

Simpfendorfer (2000), using age based demographic models, estimated an intrinsic rate of increase of 0.08 to 0.13 per year, and population doubling time of 5.4 and 8.5 for P. pectinata (US DPS). Intrinsic rates of increase for P. perotteti were 0.05 to 0.07 per year, with a population doubling time of 10.3 to 13.5 years. The estimates were based on ideal conditions (no fisheries mortality, no population fragmentation, no habitat modification and no inbreeding depression arising from the genetic consequences of a small population size). Low intrinsic rates of population increase are associated with the life history strategy known as “K-selection”. K-selected animals are usually successful at maintaining relatively small, persistent population sizes in relatively constant environments. Consequently, sawfishes are not able to respond rapidly to additional and new sources of mortality resulting from changes in their environment. Musick (1999) and Musick et al. (2000) noted that intrinsic rates of increase less than 10 percent (0.1) were low, and make the population particularly vulnerable to excessive mortalities and rapid population declines, after which recovery may take decades.

Diet and Feeding

Bigelow and Schroeder (1953) reported that sawfishes in general subsist chiefly on small schooling fishes, such as mullets and clupeids. They also reported that they feed to some extent on crustaceans and other bottom dwelling inhabitants. Breder (1952), in summarizing the literature on observations of sawfish feeding behavior, noted that they attack fish by slashing sideways through schools, and often impale the fish on their rostral teeth. Prey are subsequently scraped off the teeth by rubbing them on the bottom and then ingested whole. The oral teeth of sawfish are ray-like, having flattened cusps that are better suited to crushing or gripping.

Morphological Characteristics

All modern sawfishes appear in some respects to be more shark-like than ray-like, with only the trunk and especially the head ventrally flattened. All sawfish snouts are extended as a long, narrow, flattened, rostral blade with a series of transverse teeth along either edge. The rostrum has a saw-like appearance and hence the name sawfish. The presence of this rostrum separates sawfishes from all other skates and rays.

The smalltooth sawfish P. pectinata has 20 to 34 rostral teeth on each side of the rostrum (Bigelow and Schroeder, 1953; Thorson, 1973; McEachran and Fechhelm, 1998; Compagno and Last, 1999). P. zijsron, has perhaps the longest rostrum of any living sawfish, ranging to at least 5 ft or 1.66 m in length. The rostral tooth count for P. zijsron varies between 23 and 37 (typically 25-34) per side. Pristis zijsron is distinguished from A. cuspidata by its sharply pointed rostral teeth (versus blade-like), greater number of rostral teeth per side (23-37 versus 18-25), presence of dermal denticles over the entire body, and the lack of a developed lower caudal fin lobe (Last and Stevens, 1994). Pristis zijsron is distinguished from P. clavata by its narrow-based and moderately tapering rostrum (versus wide-based and strongly tapering), greater number of rostral teeth per side (23-37 versus 18-23), and the lack of a developed lower caudal fin lobe. In addition, P. zijsron reaches a larger maximum size (24 ft or 7.3 m or larger) than does P. clavata (10 ft or 3.1 m in total length). Pristis microdon can attain lengths of up to 7 m and is distinguished from other sawfishes by a combination of the following characteristics: first dorsal fin anterior to the pelvic fins; caudal fin bearing a conspicuous ventral lobe; and 18-23 teeth on the rostrum (Last and Stevens 1994; Compagno and Last 1998).

Analysis of Petition

We evaluated the information provided in the petition and all other information readily available in our files to determine if it presented substantial scientific or commercial information indicating that the petitioned actions may be warranted for the five valid species of sawfish (A. cuspidata; P. clavata; P. microdon; P. zijsron; and all non-listed population(s) of P. pectinata). The petition provides some information on the species, including administrative measures recommended, scientific and common name, description, habitat, and range and states that all five factors in section 4(a)(1) of the ESA are adversely affecting the continued existence of the petitioned species. In particular, the petitioner states that all of the petitioned sawfish species are threatened by habitat loss and degradation resulting from human population growth, coastal destruction and pollution, and fisheries (targeted and incidental). The petitioner also states that all six species of sawfish are threatened by the international shark fin trade, curio trade, and inadequate regulatory protection programs worldwide. Information on population status and trends for all six species of sawfish is included. Additionally, the petition states that, due to the difficulty in differentiating between all sawfish species, enforcement of trade bans is very difficult.

Data are not available to determine the actual number or size of most remaining populations of sawfish, but all known populations of sawfishes have severely declined based on publication and museum records, negative scientific survey records, anecdotal fisher observations, and limited catch per unit effort information. Many populations have been extirpated or are near extirpation from large areas of their former range, with no or only very few observations since the 1960s. Interviews with fishers (structured and unstructured) have been undertaken in several countries in recent years to obtain information on recent and historic catches (e.g., Doumbouya, 2004; Saine, 2004). In most range states, these species are now only very sporadically recorded. Due to their unique morphological characteristics, it is unlikely that individuals would not report catching a sawfish.

We summarize our analysis and conclusions regarding the specific ESA section 4(a)(1) factors affecting the species' risk of extinction below.

The Present or Threatened Destruction, Modification, or Curtailment of Its Habitat or Range

The information presented in the petition on the species states coastal development has caused substantial losses in coastal zone habitats through agricultural and urban development, commercial activities, dredge-and-fill activities, boating erosion, and diversions of freshwater. The petitioner also refers to information on habitat degradation and loss listed in the 2007 proposal by the U.S. to list all species of sawfish under the Conventions on International Trade in Endangered Species of Wild Fauna and Flora (CITES). Additionally, information in our files indicates that the distribution and range of all species of sawfish has become severely fragmented and significant range contractions have occurred.

Overutilization for Commercial, Recreational, Scientific, or Educational Purposes

Information from the petition and in our files suggests that the primary threat to all sawfish species is from fisheries. Sawfishes are caught as bycatch in various fishing gears (rod and reel, shrimp nets, trawls, and gill nets). Sawfish species are highly susceptible to entanglement in fishing gears because their toothed-rostrum makes it difficult to avoid entanglement in almost all types of mesh nets. The saw becomes entangled in the net and fishers often harm the animal (remove their saw or kill them) when removing them from their nets. In some locations where they are or were abundant enough, sawfishes have been directly targeted because of their value.

Sawfishes are utilized for a wide variety of products. Among the most common products is the sawfish rostrum. Rostrums have long been a favorite marine curio (Migdalski, 1981) with large rostra commanding impressive prices (McDavitt, 1996). Rostra are sometimes decorated with elaborate designs or grotesque faces. These folk art rostra are sometimes fashioned into elaborate sheaths for knives. Sawfish rostra are also utilized as ceremonial weapons in the folk religion of Taiwan. McDavitt (1996) reported that sawfish rostra are also used in traditional medicine in Asia and in Mexico City. Rostra are dried and powdered, and then infused into a medicinal tea, which is used to treat “whooping cough, bronchitis, laryngitis and diseases of the respiratory tract in general” (Watson, 2004).

Sawfish rostral teeth have been the preferred material used to manufacture artificial “spurs” for use as weapons in Peruvian cockfighting (Cogorno Ventura, 2001). The rostral teeth are mostly obtained from Brazil, Ecuador, Panama, and various Caribbean countries. Charvet-Almeida (2002) and McDavitt and Charvet-Almeida (2004) determined that rostra find their way into the international cockfighting market from Brazil. Sawfish rostral teeth have been favored over other natural spur materials (such as deer antler, sea turtle shell, sea-lion teeth, mammal bones, and stingray spines), as systematic testing revealed that sawfish teeth were more durable, and have a sufficiently porous surface to cause greater body damage to the opponent (McDavitt and Charvet-Almeida, 2004).

Sawfish products are also utilized for medicinal purposes. Four sawfish products are listed as materia medica in traditional Chinese medicine: liver, ova, and bile (Han and Xu, 1992) as well as the sawfish rostra (McDavitt, 1996). The bile of sawfishes is thought to remove phlegm and diminish inflammation from such conditions as fall injuries, rheumatoid arthritis, and cholecystitis (inflammation of the gall bladder) (McDavitt, 1996).

Sawfishes are highly prized as exhibit animals in public aquaria because of their charismatic nature (McDavitt, 1996). They command high prices in the aquarium trade. Because of their large fins with high fin needle content (a tasteless gelatinous product used to make shark fin soup), sawfish fins are valued for shark fin soup in Asia. Although few fin dealers advertise the type of fins they trade, one Hong Kong vendor designates two trade names used for sawfish fins: huang jiao (described in English as “saw shark,”) and mian qun (labeled as “yellow shovel nose” in English).

Disease and Predation

The petition states that disease from parasitic infections and natural predation from sharks and crocodiles are not responsible for the dramatic decline of the populations of sawfish. The petitioner also states that entanglement in fishing gears increases the risk of predation for sawfish due to their reduced population size. The petitioner states that disease and predation may now be a greater threat for all five petitioned species since their populations have declined, but does not provide information to substantiate their claims. There is no evidence in our files that indicate that disease and/or predation are negatively affecting population growth in these species.

Inadequacy of Existing Regulatory Mechanisms

As stated in the petition and in the U.S.' CITES proposal to list all sawfishes (2007), very few countries have enacted legislation specifically to protect sawfishes or manage their fisheries. Consequently, protective measures covering trade of A. cuspidata, P. clavata, P. zijsron, and P. pectinata were implemented internationally under Appendix I of CITES in 2007, making non-domestic trade of parts illegal. Pristis microdon was protected under Appendix II of CITES only for the purposes of live trade of animals to aquaria. Protection under Appendix I prohibits international trade in specimens of these species except when the purpose of the import is not commercial, for instance for scientific research. In these exceptional cases, trade may take place provided it is authorized by the granting of both an import permit and an export permit (or re-export certificate). Protection under Appendix II listing means international trade is allowed but an export permit or re-export certificate must be issued when it is determined that trade will not be detrimental to the survival of the species in the wild. Although all sawfishes are protected under CITES, information in our files indicates that enforcement of these regulations in various countries is difficult due to the length of the coastline, extensive internal waterways, lack of enforcement personnel, and the need for more efficient tools. Targeted fisheries for sawfish species is unlikely in most countries because abundances are so low; however, those caught as bycatch are probably kept due to their value. Thus, illegal foreign trade of sawfish parts may be ongoing in Nicaragua and Brazil and elsewhere in spite of the CITES listing and national laws (McDavitt, 2006). The Nicaraguan government imposed a temporary moratorium on targeted fishing for sawfishes in Lake Nicaragua in the early 1980s (Thorson, 1982), after the population collapsed following intensive fishing in the 1970s. The aim was to allow the population to recover, but no such recovery has occurred (McDavitt, 2002). Indonesia enacted legislation to protect sawfishes (and five other freshwater fish species) in Lake Sentani, West Papua, following severe depletion of populations in a gill net fishery (Compagno et al., 2006). All Australian sawfish populations are listed as Vulnerable or Endangered, either under Australia's Commonwealth Environment Protection and Biodiversity Conservation Act or by the Australian Society for Fish Biology. Environment Australia was petitioned to list all species of sawfish on the Endangered Species List and India's Ministry of Environment and Forests has protected sawfishes under the Wildlife Protection Act since 2001.

Other Natural or Manmade Factors

Both information in the petition and information in our files indicate that the future abundance of all sawfish species is limited by their life history characteristics. Sawfish have slow growth rates, late maturity, a long life span, and low fecundity rates. K-selected animals are usually successful at maintaining relatively small, persistent population sizes in relatively constant environments. Conversely, they are not able to respond rapidly to additional sources of mortality, such as overexploitation and habitat degradation.

Summary of Section 4(a)(1) Factors

In summary, the petition and information in our files present substantial information that four of the five of section 4(a)(1) factors are likely affecting the continued existence of the five petitioned sawfish species. Interactions between and among these various threats may further exacerbate the impacts of each of the threats, such that there may be an extinction risk of concern for each of the five species.

Petition Finding

After reviewing the information contained in the petition and in our files, we conclude there is not substantial scientific or commercial information indicating that P. pristis is a valid species eligible for listing. However, the petition and information in our files present substantial scientific or commercial information indicating that the petitioned action may be warranted for the other five species of sawfish throughout their entire range (A. cuspidata, P. clavata, P. microdon, P. zijsron, and all non-listed population(s) of P. pectinata). In accordance with section 4(b)(3)(B) of the ESA and NMFS' implementing regulations (50 CFR 424.14(b)(2)), we will commence a review of the status of these five species and make a determination within 12 months of receiving the petition as to whether the petitioned action is warranted. The U.S. DPS of P. pectinata is already listed as an endangered species. As part of the status review, we will apply our DPS policy to the non-listed populations. If warranted, we will publish a proposed rule to list one or more species. If we propose any listings we will solicit public comments before developing and publishing a final rule.

Information Solicited

To ensure that the status review is based on the best available scientific and commercial data, we are soliciting information on whether A. cuspidata, P. clavata, P. microdon, P. zijsron, and all non-listed population(s) of P. pectinata are endangered or threatened. Specifically, we are soliciting information in the following areas: (1) Historical and current distribution and abundance of these species throughout their range; (2) historical and current population trends; (3) life history in marine environments, (4) curio, meat, shark fin or other trade data; (5) taxonomy; (6) any current or planned activities that may adversely impact the species; (7) ongoing or planned efforts to protect and restore the species and their habitats; (8) population structure information relevant to distinct population segments; and (9) management, regulatory, and enforcement information. We request that all information be accompanied by: (1) supporting documentation such as maps, bibliographic references, or reprints of pertinent publications; and (2) the submitter's name, address, and any association, institution, or business that the person represents.

References Cited

A complete list of references is available upon request from the Protected Resources Division on NMFS Southeast Regional Office (see ADDRESSES).

Authority

The authority for this action is the Endangered Species Act of 1973, as amended (16 U.S.C. 1531 et seq.).

Dated: March 1, 2011.
Samuel D. Rauch III,
Deputy Assistant Administrator for Fisheries for Regulatory Programs, National Marine Fisheries Service.

[FR Doc. 2011-5107 Filed 3-4-11; 8:45 am]

BILLING CODE 3510-22-P